DEPARTMENT OF ENERGY

Federal Energy Regulatory Commission

[Project No. 5891-009]

Deschutes Valley Water District; Notice of Revised Application Accepted for Filing, Soliciting Motions To Intervene and Protests, Comments, Recommendations, Terms and Conditions, and Fishway Prescriptions

Take notice that the following hydroelectric application has been filed with the Commission and is available for public inspection:

a. Application Type: Revised Amendment Application.

b. Project No.: 5891-009.

c. Date Filed: October 31, 2017.

d. Applicant: Deschutes Valley Water District (licensee).

e. Name of Project: Opal Springs Hydroelectric Project.

f. Location: The project is located on the Crooked River in Jefferson County, Oregon.

g. Filed Pursuant to: Federal Power Act, 16 U.S.C. 791(a)-825(r).

h. Applicant Contact: Edson Pugh, General Manager, Deschutes Valley Water District, 881 SW Culver Highway, Madras, Oregon 97741; telephone (541) 475-3849; email edson@dvwd.org.

i. FERC Contact: Jennifer Ambler; telephone: (202) 502-8586; email address: jennifer.ambler@ferc.gov.

j. Deadline for filing motions to intervene and protests, comments, recommendations, terms and conditions, and fishway prescriptions is 30 days from the issuance date of this notice by the Commission.

All documents may be filed electronically via the internet. See, 18 CFR 385.2001(a)(1)(iii) and the instructions on the Commission's website at http://www.ferc.gov/docs-filing/efiling.asp. The Commission strongly encourages electronic filing. Please file motions to intervene, protests, comments, recommendations, terms and conditions and fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. The first page of any filing should include docket number P-5891-009.

k. Description of Request: On October 8, 2015, the licensee filed an application to amend its license and install fish passage facilities at the project. Public notice of the application was issued November 5, 2015. That application was placed in abeyance on December 21, 2016. The licensee's October 31, 2017 filing of its revised amendment application lifts the abeyance. Therefore, Commission staff notices the licensee's revised amendment application.

The licensee proposes to construct upstream fish passage facilities on the east bank of the dam and to modify the existing spillway to improve downstream fish passage. To accommodate the proposed modifications, the licensee would raise the project's normal maximum reservoir elevation by 3 feet and would replace the current flashboard system with a fixed wooden flashboard section along with one inflatable weir to attain the proposed higher reservoir elevation. The licensee states that the amendment is necessary to facilitate the reintroduction of steelhead trout and Chinook salmon. Revisions to the licensee's original application include a reduction in the proposed normal maximum pool elevation increase from 6 feet to 3 feet, a modified forebay elevation range for fish ladder operation, a single fish ladder exit, and the use of one gate for downstream fish passage.

l. Locations of the Application: A copy of the application is available for inspection and reproduction at the Commission's Public Reference Room, located at 888 First Street, NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application. The revised application remains a part of the original proceeding; therefore, interveners to the original proceeding need not refile intervention motions.

o. Filing and Service of Responsive Documents: All filings must (1) bear in all capital letters the title PROTEST, MOTION TO INTERVENE, COMMENTS, RECOMMENDATIONS, TERMS AND CONDITIONS, or FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). All comments, recommendations, terms and conditions, or prescriptions should relate to the proposed amendment application and fish passage operation plan. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: December 12, 2017.
Kimberly D. Bose,
Secretary.

[FR Doc. 2017-27176 Filed 12-15-17; 8:45 am]

BILLING CODE 6717-01-P